DEPARTMENT OF TRANSPORTATION

Federal Aviation Administration

[Docket No. FAA-2003-14374]

Rotor Manufacturing Induced Anomaly Database

AGENCY: Federal Aviation Administration (FAA), DOT.

ACTION: Order designating voluntarily submitted information as protected from disclosure.

SUMMARY: By this Order the FAA designates the information and data submitted to create the Rotor Manufacturing Induced Anomaly Database (known as the “ROMAN Database”) as protected from disclosure under 14 CFR part 193, Protection of voluntarily submitted information. This designation requires the FAA to protect the information from disclosure under the Freedom of Information Act (5 U.S.C. 552) and other laws. The FAA makes this designation to encourage production approval holders and suppliers that manufacture high energy rotating gas turbine engine components to voluntarily submit information for inclusion into the ROMAN database.

Authority: 49 U.S. 40123; and 14 CFR part 193.

DATES: Effective April 14, 2003.

FOR FURTHER INFORMATION CONTACT: Dan Kerman, Aviation Safety Inspector-Manufacturing Process Specialist, Manufacturing Inspection Office, ANE-180, Engine and Propeller Directorate, Federal Aviation Administration, New England Region, 12 New England Executive Park, Burlington, MA 01802, telephone 781-238-7195; fax (781) 238-7898.

SUPPLEMENTARY INFORMATION: On February 4, 2003, the FAA issued a Notice proposing to designate information submitted to it to create the Rotor Manufacturing Induced Anomaly Database (known as the “ROMAN Database”) as protected from disclosure under 14 CFR part 193 (68 FR 6790, February 10, 2003). No comments were received on the proposal.

Findings under CFR Part 193

The FAA finds:

(1) The information will be provided voluntarily. The FAA finds that the information will be provided voluntarily. Note that the information provided by the participants is beyond the scope of that required by the type certification mandatory reporting rules, and that the participants may withdraw from the program at any time. The ROMAN database will provide production approval holders (PAH) and suppliers of critical rotating parts with an opportunity to benefit from each other's adverse experiences and lessons learned that is not available without the protection of 14 CFR part 193. The identification of trends and the establishment of the shortfalls with the base manufacturing processes as a result of the ROMAN database will provide economic benefit to the submitters.

(2) The information is safety or security related. The FAA finds that the information is safety related. The ROMAN database will contain comprehensive information on manufacturing-induced anomalies on critical rotating engine components. These anomalies are of the kind that are known to initiate disk fracture and fatigue failure resulting in aircraft accidents. Also, important background information will be used to relate those anomalies to specific manufacturing methods and materials. The database will be instrumental in identifying manufacturing process and material shortfalls that will assist the industry and the FAA in improving the integrity and safety of rotating parts of jet engines.

(3) The disclosure of the information would inhibit the voluntary provision of that type of information. The FAA finds that the disclosure of the information would inhibit persons from voluntarily providing of that type of information. The information submitted for the ROMAN database would be highly sensitive and commercially valuable information. One of the reasons why such a database does not already exist is the reluctance of each participant to share its data and lessons learned with the FAA as well as each other without the assurances of protection from public disclosure.

(4) The receipt of this type of information aids in fulfilling the FAA's safety and security responsibilities. The receipt of information for the ROMAN database will aid the FAA in improving overall engine rotor integrity and decreasing the occurrence and severity of engine rotor failures. Reducing the number of aircraft accidents attributable to the failure of rotating parts in engines is an important part of the FAA's Safer Skies Program. The ROMAN database provides a way to identify manufacturing trends and precursors before they result in anomalies that might cause rotating part failures and aircraft accidents.

(5) Withholding such information from disclosure, under the circumstances provided in this part, is consistent with the FAA's safety and security responsibilities. Withholding the information submitted to the FAA to form the ROMAN database from public disclosure is consistent with the FAA's safety responsibilities. The ROMAN database will provide a key method to improving safety in air commerce by identifying manufacturing trends that may contribute to the presence of anomalies in the rotating parts in aircraft engines that could potentially cause those parts to fail. Identifying these trends will lead to improvements in manufacturing processes as well as design practices to eliminate and account for the anomalies in future production and the removal of parts already in service before the actual failure occurs.

The FAA will withhold and release information submitted under this program as specified in 14 CFR 193.9.

The FAA may release activity reports that include the number of PAHs and suppliers who are participating and the number of manufacturing trends identified as a result. Activity reports will not include the names of the PAH's and suppliers who participate, or numbers or details of the anomalies that have been disclosed under this program.

(6) Summary of how the FAA will distinguish information protected under this program from information the FAA receives from other sources. The FAA routinely receives data and information aircraft engine PAHs as part of its regulatory oversight of approved engine designs. The data received for the ROMAN database will be maintained separately by having the ROMAN database managed by a contractor. The ROMAN database will include only information received under this program. Information that is received under this program, and reports generated ROMAN database, will be clearly marked as having been received under this program as follows:

WARNING: The Information in this Document Is Protected from Disclosure under 14 CFR part 193. This Information Shall Not Be Released Except With Written Permission of the Associate Administrator for Regulation and Certification.

Designation

Accordingly, the Federal Aviation Administration hereby designates the information submitted under this program to be protected under 49 U.S.C. 40123 and 14 CFR part 193.

Issued in Washington, DC on April 14, 2003.
Nicholas A. Sabatini,
Associate Administrator for Regulation and Certification.

[FR Doc. 03-9890 Filed 4-2-03; 8:45 am]

BILLING CODE 4910-13-M